DEPARTMENT OF TRANSPORTATION

Federal Aviation Administration

14 CFR Part 39

[Docket No. FAA-2007-0225; Directorate Identifier 2007-NM-210-AD; Amendment 39-15583; AD 2008-13-20]

RIN 2120-AA64

Airworthiness Directives; Boeing Model 757 Airplanes Equipped With Rolls Royce RB211-535E Engines

AGENCY: Federal Aviation Administration (FAA), DOT.

ACTION: Final rule.

SUMMARY: We are adopting a new airworthiness directive (AD) for certain Boeing Model 757 airplanes equipped with Rolls Royce RB211-535E engines. This AD requires repetitive inspections for signs of damage of the aft hinge fittings and attachment bolts of the thrust reversers, and related investigative and corrective actions if necessary. This AD results from reports of several incidents of bolt failure at the aft hinge fittings of the thrust reversers due to, among other things, high operational loads. We are issuing this AD to prevent failure of the attachment bolts and consequent separation of a thrust reverser from the airplane during flight, which could result in structural damage to the airplane.

DATES: This AD is effective August 6, 2008.

The Director of the Federal Register approved the incorporation by reference of certain publications listed in this AD as of August 6, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Jason Deutschman, Aerospace Engineer, Airframe Branch, ANM-120S, Seattle Aircraft Certification Office, FAA, 1601 Lind Avenue, SW., Renton, Washington 98057-3356; telephone (425) 917-6449; fax (425) 917-6590.

SUPPLEMENTARY INFORMATION:

Discussion

We issued a notice of proposed rulemaking (NPRM) to amend 14 CFR part 39 to include an airworthiness directive (AD) that would apply to certain Boeing Model 757 airplanes equipped with Rolls Royce RB211-535E engines. That NPRM was published in the Federal Register on November 26, 2007 (72 FR 65903). That NPRM proposed to require repetitive inspections for signs of damage of the aft hinge fittings and attachment bolts of the thrust reversers, and related investigative and corrective actions if necessary.

Comments

We gave the public the opportunity to participate in developing this AD. We considered the comments received.

Request to Include Terminating Action

Continental Airlines (CAL) and Federal Express (FedEx) ask that the preventive modification specified in Boeing Special Attention Service Bulletins 757-54-0049 and 757-54-0050, both dated July 16, 2007, be included in the AD as follows:

CAL asks that a new paragraph be added to clarify that accomplishing the preventive modification provided in Part III of the above referenced service bulletins constitutes terminating action for the repetitive inspections required by paragraph (f) of the NPRM.

FedEx states that the referenced service bulletins specify that the repetitive inspections are no longer necessary once the preventive modification is accomplished. FedEx would like to confirm that accomplishing the preventive modification will terminate any further inspections in the NPRM, and asks that we include the terminating action in the AD.

We agree that clarification is necessary for the reasons provided; therefore, we have added a new paragraph (h) to this AD (and re-identified subsequent paragraphs) to include optional terminating action for paragraph (f) of this AD.

Request To Clarify Applicability

FedEx asks that Model 757-200SF (special freighter) airplanes be added to the applicability specified in paragraph (c) of the NPRM. FedEx states that the NPRM applies to Model 757-200, -200CB, -200PF, and -300 series airplanes equipped with Rolls Royce RB211-535E engines. FedEx states that its airplanes will be modified from the Model 757-200 passenger configuration to a special freighter configuration. FedEx adds that it will submit a supplemental type certificate (STC) to the FAA to confirm the new certification of the airplane after release of this AD.

We do not agree that Model 757-200SF airplanes should be added to the applicability in this AD. The airplanes cited by the commenter are legally known as “Model 757-200 airplanes” as identified on the airplane data plate. Even though they might be modified by STC and commonly known as “special freighters,” these airplanes continue to be identified by the type certificated model designation. We have made no change to the AD in this regard.

FedEx also asks for clarification of the difference between the effectivity specified in the concurrent service information referenced in paragraph (h) of the NPRM and the applicability in the NPRM. FedEx states that the concurrent service bulletin (Boeing Service Bulletin 757-54-0015, Revision 3, dated September 19, 1996) addresses the replacement of older hinge fittings for airplanes having line numbers 2 through 241.

We provide the following clarification. Paragraph (h) of the NPRM (changed to paragraph (i) in the final rule) requires accomplishing the actions in Boeing Service Bulletin 757-54-0015 prior to or concurrently with accomplishing the actions specified in Boeing Special Attention Service Bulletin 757-54-0049, dated July 16, 2007. Airplanes having line number 242 and subsequent have the production change installed and are covered by paragraph (e) of this AD. The NPRM is applicable to airplanes equipped with Rolls Royce RB211-535E engines; no line numbers are identified. Therefore, we have made no change to the AD in this regard.

Conclusion

We reviewed the relevant data, considered the comments received, and determined that air safety and the public interest require adopting the AD with the change described previously. We also determined that this change will not increase the economic burden on any operator or increase the scope of the AD.

Costs of Compliance

There are about 606 airplanes of the affected design in the worldwide fleet. This AD affects about 295 airplanes of U.S. registry. The inspections take about 2 work hours per airplane, at an average labor rate of $80 per work hour. Based on these figures, the estimated cost of the AD for U.S. operators is $47,200, or $160 per airplane, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-13-20 Boeing: Amendment 39-15583. Docket No. FAA-2007-0225; Directorate Identifier 2007-NM-210-AD.

Effective Date

(a) This airworthiness directive (AD) is effective August 6, 2008.

Affected ADs

(b) None.

Applicability

(c) This AD applies to Boeing Model 757-200, -200CB, -200PF, and -300 series airplanes, certificated in any category; equipped with Rolls Royce RB211-535E engines.

Unsafe Condition

(d) This AD results from reports of several incidents of bolt failure at the aft hinge fittings of the thrust reversers due to, among other things, high operational loads. We are issuing this AD to prevent failure of the attachment bolts and consequent separation of a thrust reverser from the airplane during flight, which could result in structural damage to the airplane.

Compliance

(e) You are responsible for having the actions required by this AD performed within the compliance times specified, unless the actions have already been done.

Repetitive Inspections/Investigative and Corrective Actions

(f) At the time specified in paragraph 1.E. “Compliance,” of Boeing Special Attention Service Bulletin 757-54-0049 or 757-54-0050, both dated July 16, 2007, as applicable, except as provided by paragraph (g) of this AD: Do a detailed inspection for signs of damage of the aft hinge fittings and attachment bolts of the thrust reversers by doing all the actions, including all applicable related investigative and corrective actions, as specified in the Accomplishment Instructions of the applicable service bulletin. Do all applicable related investigative and corrective actions at the time specified in paragraph 1.E., “Compliance,” of the applicable service bulletin. If any damage is found and the service bulletins specify to contact Boeing for appropriate action: Before further flight, repair using a method approved in accordance with the procedures specified in paragraph (k) of this AD.

(g) Where Boeing Special Attention Service Bulletins 757-54-0049 and 757-54-0050, both dated July 16, 2007, specify compliance times relative to the date on the service bulletin, this AD requires compliance within the specified compliance time after the effective date of this AD.

Optional Terminating Action

(h) Accomplishing the preventive modification specified in Boeing Special Attention Service Bulletin 757-54-0049 or 757-54-0050, both dated July 16, 2007, terminates the repetitive inspections required by paragraph (f) of this AD.

Concurrent Actions

(i) Prior to or concurrently with accomplishing the actions specified in Boeing Special Attention Service Bulletin 757-54-0049, dated July 16, 2007, accomplish the replacement specified in Boeing Service Bulletin 757-54-0015, Revision 3, dated September 19, 1996.

(j) Actions accomplished before the effective date of this AD in accordance with Boeing Service Bulletin 757-54-0015, dated February 16, 1989; Revision 1, dated December 20, 1990; or Revision 2, dated April 21, 1994 are considered acceptable for compliance with the corresponding actions specified in paragraph (i) of this AD.

Alternative Methods of Compliance (AMOCs)

(k)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(l) You must use the Boeing service information contained in Table 1 of this AD to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information that is incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Table 1.—Material Incorporated by Reference
Service information | Revision | Date
Boeing Special Attention Service Bulletin 757-54-0015 | 3 | September 19, 1996.
Boeing Special Attention Service Bulletin 757-54-0049 | Original | July 16, 2007.
Boeing Service Bulletin 757-54-0050 | Original | July 16, 2007.

Issued in Renton, Washington, on June 8, 2008.
Michael Kaszycki,
Acting Manager, Transport Airplane Directorate, Aircraft Certification Service.

[FR Doc. E8-14190 Filed 7-1-08; 8:45 am]

BILLING CODE 4910-13-P